ENVIRONMENTAL PROTECTION AGENCY

[FRL-9090-4]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2100.04; Reporting Requirements under EPA's Climate Leaders Partnership (Change); was approved on 11/16/2009; OMB Number 2060-0532; expires on 04/30/2012; Approved without change.

EPA ICR Number 0113.10; NESHAP for Mercury; 40 CFR part 61, subpart E and 40 CFR part 61, subpart A; was approved on 11/18/2009; OMB Number 2060-0097; expires on 11/30/2012; Approved without change.

EPA ICR Number 1428.08; Trade Secret Claims for Emergency Planning and Community Right-to-Know Act (Renewal); 40 CFR part 350; was approved on 11/18/2009; OMB Number 2050-0078; expires on 11/30/2012; Approved with change.

EPA ICR Number 0976.14; Notification of Regulated Waste Activity and 2009 Hazardous Waste Report (Renewal); 40 CFR 262.12, 262.40, 262.41, 262.75, 263.11, 264.1, 264.11, 264.75, 265.1, 265.22, 265.75, 266.21, 266.22, 266.23, 266.70, 266.80, 266.100, 266.108, 270.1, 270.30, 273.32, 273.60, 279.42, 279.62, and 279.73, was approved on 11/18/2009; OMB Number 2050-0024; expires on 11/30/2011; Approved without change.

EPA ICR Number 1188.09; TSCA Section 5(a); 40 CFR part 721; was approved on 11/30/2009; OMB Number 2070-0038; expires on 11/30/2012; Approved without change.

EPA ICR Number 2300.03; Regulation to Establish Mandatory Reporting of Greenhouse Gases; 40 CFR parts 86, 89, 90, 94, 98, 600, 1033, 1039, 1042, 1045, 1048, 1051, 1054 and 1065, was approved on 11/30/2009; OMB Number 2060-0629; expires on 11/30/2012; Approved with change.

EPA ICR Number 1633.15; Acid Rain Program under Title IV of the Clean Air Act Amendments (Renewal); 40 CFR parts 72-78; was approved on 11/30/2009; OMB Number 2060-0258; expires on 11/30/2012; Approved with change.

EPA ICR Number 1894.06; NESHAP for Secondary Aluminum Production; 40 CFR part 63, subpart A and 40 CFR part 63, subpart RRR; was approved on 11/30/2009; OMB Number 2060-0433; expires on 11/30/2012; Approved without change.

EPA ICR Number 0649.10; NSPS for Metal Furniture Coating; 40 CFR part 60, subpart A and 40 CFR part 60, subpart EE; was approved on 11/30/2009; OMB Number 2060-0106; expires on 11/30/2012; Approved without change.

Comment Filed

EPA ICR Number 1801.07; NESHAP for the Portland Cement Manufacturing Industry; in 40 CFR part 63, subpart LLL; OMB filed comment on 11/18/2009.

EPA ICR Number 2333.01; Renewable Fuels Standard (RFS2) Program (Proposed Rule); in 40 CFR part 80, subpart M; OMB filed comment on 11/19/2009.

EPA ICR Number 2345.01; Control of Emissions from New Marine Compression-Ignition Engines at or Above 30 Liters per Cylinder (Proposed Rule); in 40 CFR parts 80, 85, 86; OMB filed comment on 11/30/2009.

Disapproved

EPA ICR Number 2212.04; Minority Business Enterprise/Woman Business Enterprise (MBE/WBE) Utilization under Federal Grants Cooperative Agreements and Interagency Agreements (Renewal); was disapproved by OMB on 10/31/2009.

Withdrawn and Continue

EPA ICR Number 1360.10; Underground Storage Tanks: Technical and Financial Requirements, and State Program Approval Procedures; Withdrawn from OMB on 11/02/2009

EPA ICR Number 1648.06; Control Technology Determinations for Equivalent Emission Limitations by Permit under section 112(j) of Clean Air Act; Withdrawn from OMB on 11/30/2009.

Dated: December 1, 2009.
John Moses,
Director, Collections Strategies Division.

[FR Doc. E9-29215 Filed 12-7-09; 8:45 am]

BILLING CODE 6560-50-P